DEPARTMENT OF ENERGY

Federal Energy Regulatory Commission

Combined Notice of Filings #2

May 14, 2009.

Take notice that the Commission has received the following Natural Gas Pipeline Rate and Refund Report filings:

Docket Numbers: RP99-176-199.

Applicants: Natural Gas Pipeline Co of America LLC.

Description: Natural Gas Pipeline Company of America, LLC submits two amendments to existing negotiated rate transactions under Rate Schedule FTS Service Agreement with Nicor Gas Company.

Filed Date: 05/13/2009.

Accession Number: 20090513-0283.

Comment Date: 5 p.m. Eastern Time on Tuesday, May 26, 2009.

Docket Numbers: RP09-245-001.

Applicants: Transcontinental Gas Pipe Line Company,

Description: Transcontinental Gas Pipe Line Company, LLC submits First Revised Sheet 461 to its FERC Gas Tariff, Fourth Revised Volume 1.

Filed Date: 05/11/2009.

Accession Number: 20090511-0109.

Comment Date: 5 p.m. Eastern Time on Tuesday, May 26, 2009.

Docket Numbers: RP09-275-001.

Applicants: Columbia Gulf Transmission Company.

Description: NiSource Gas Transmission & Storage submits part of its Sixth Revised Sheet 191 et al. to Second Revised Volume 1 to FERC Gas Tariff with a proposed effective date of 6/10/09 re Columbia Gas Transmission LLC.

Filed Date: 05/11/2009.

Accession Number: 20090512-0042.

Comment Date: 5 p.m. Eastern Time on Tuesday, May 26, 2009.

Docket Numbers: RP09-294-002.

Applicants: Columbia Gas Transmission, LLC.

Description: Columbia Gas Transmission, LLC submits First Revised Sheet 327 et al. to its FERC Gas Tariff, Third Revised Volume 1, to be effective 6/12/09.

Filed Date: 05/12/2009.

Accession Number: 20090513-0189.

Comment Date: 5 p.m. Eastern Time on Tuesday, May 26, 2009.

Docket Numbers: RP09-367-001.

Applicants: MarkWest Pioneer, L.L.C.

Description: MarkWest Pioneer, LLC submits Amendment No. 1 to the negotiated rate agreement with Newfield Exploration Mid-Continent Inc.

Filed Date: 05/11/2009.

Accession Number: 20090513-0157.

Comment Date: 5 p.m. Eastern Time on Tuesday, May 26, 2009.

Docket Numbers: RP09-412-002.

Applicants: Williston Basin Interstate Pipeline Co.

Description: Williston Basin Interstate Pipeline Co submits Second Substitute Fifteenth Revised Sheet 724 et al. to Second Revised Volume 1.

Filed Date: 05/13/2009.

Accession Number: 20090514-0047.

Comment Date: 5 p.m. Eastern Time on Tuesday, May 26, 2009.

Docket Numbers: RP09-574-001.

Applicants: Colorado Interstate Gas Company.

Description: Colorado Interstate Gas Company submits Substitute Original Sheet 380R.02 et al. to its FERC Gas Tariff, First Revised Volume 1, to be effective 6/1/09.

Filed Date: 05/12/2009.

Accession Number: 20090513-0190.

Comment Date: 5 p.m. Eastern Time on Tuesday, May 26, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Secretary.

[FR Doc. E9-11957 Filed 5-21-09; 8:45 am]

BILLING CODE 6717-01-P